DEPARTMENT OF ENERGY

Federal Energy Regulatory Commission

Combined Notice of Filings #1

Take notice that the Commission received the following exempt wholesale generator filings:

Docket Numbers: EG20-60-000.

Applicants: Wilton Wind Energy I, LLC.

Description: Notice of Self-Certification of Exempt Wholesale Generator Status of Wilton Wind Energy I, LLC.

Filed Date: 12/17/19.

Accession Number: 20191217-5205.

Comments Due: 5 p.m. ET 1/7/20.

Take notice that the Commission received the following electric rate filings:

Docket Numbers: ER12-162-026; ER13-1266-027; ER11-2044-031; ER15-2211-024

Applicants: MidAmerican Energy Company, Bishop Hill Energy II LLC, CalEnergy, LLC, MidAmerican Energy Services, LLC.

Description: Notice of Non-Material Change in Status of the Berkshire Hathaway Central Parties, et al.

Filed Date: 12/18/19.

Accession Number: 20191218-5010.

Comments Due: 5 p.m. ET 1/8/20.

Docket Numbers: ER13-2409-008; ER11-4363-008; ER11-4498-012; ER11-4499-012; ER11-4501-014; ER12-2448-013; ER12-979-013; ER14-2858-007; ER15-2615-003 ER15-2620-003; ER16-2293-004; ER16-2577-003 ER16-2653-004; ER16-2687-002; ER17-2457-003 ER17-2470-003; ER17-790-001; ER18-2312-002 ER18-27-002.

Applicants: Buffalo Dunes Wind Project, LLC, Osage Wind, LLC, Smoky Hills Wind Farm, LLC, Smoky Hills Wind Project II, LLC, Caney River Wind Project, LLC, Chisholm View Wind Project, LLC, Chisholm View Wind Project II, LLC, Origin Wind Energy, LLC, Goodwell Wind Project, LLC, Little Elk Wind Project, LLC, Drift Sand Wind Project, LLC, Lindahl Wind Project, LLC, Cimarron Bend Wind Project I, LLC, Red Dirt Wind Project, LLC, Cimarron Bend Wind Project II, LLC, Enel Green Power Diamond Vista Wind Project, LLC, Rock Creek Wind Project, LLC, Rocky Ridge Wind Project, LLC, Thunder Ranch Wind Project, LLC.

Description: Supplement to January 22, 2019 Notice of Non-Material Change in Status of Buffalo Dunes Wind Project, LLC, et. al.

Filed Date: 12/17/19.

Accession Number: 20191217-5161

Comments Due: 5 p.m. ET 1/7/20.

Docket Numbers: ER18-2399-002; ER19-1194-001; ER18-1990-002; ER15-1147-002.

Applicants: Canal Generating LLC, Canal 3 Generating LLC, Bucksport Generation LLC, Stonepeak Kestrel Energy Marketing LLC.

Description: Notice of Change in Status of Canal Generating LLC, et al.

Filed Date: 12/18/19.

Accession Number: 20191218-5012.

Comments Due: 5 p.m. ET 1/8/20.

Docket Numbers: ER19-2800-002.

Applicants: Russell City Energy Company, LLC.

Description: Compliance filing: Russell City Energy Company LLC. Docket No. ER19-2800 Compliance Filing to be effective 12/9/20.19.

Filed Date: 12/17/19.

Accession Number: 20191217-5197.

Comments Due: 5 p.m. ET 1/7/20.

Docket Numbers: ER20-623-000.

Applicants: Shell Energy North America (US), L.P.

Description: § 205(d) Rate Filing: Notice of Non-Material Change in Status & SE Change in Cat. Seller Status to be effective 12/18/20.19.

Filed Date: 12/17/19.

Accession Number: 20191217-5196.

Comments Due: 5 p.m. ET 1/7/20.

Docket Numbers: ER20-624-000.

Applicants: Wolverine Power Supply Cooperative, Inc.

Description: § 205(d) Rate Filing: Contribution in Aid Construction Agreement for Blendon Transmission Station to be effective 12/18/20.19.

Filed Date: 12/17/19.

Accession Number: 20191217-5204.

Comments Due: 5 p.m. ET 1/7/20.

Docket Numbers: ER20-625-000.

Applicants: Algonquin SKIC 10 Solar, LLC.

Description: § 205(d) Rate Filing: Certificate of Concurrence to be effective 12/18/20.19.

Filed Date: 12/17/19.

Accession Number: 20191217-5235.

Comments Due: 5 p.m. ET 1/7/20.

Docket Numbers: ER20-626-000.

Applicants: Indiana Michigan Power Company, AEP Indiana Michigan Transmission Company, PJM Interconnection, L.L.C.

Description: § 205(d) Rate Filing: AEP submits ILDSA, Service Agreement No. 5120 and 2 Facilities Agreements to be effective 2/16/2020.

Filed Date: 12/18/19.

Accession Number: 20191218-5027.

Comments Due: 5 p.m. ET 1/8/20.

Docket Numbers: ER20-627-000.

Applicants: Arizona Public Service Company.

Description: Tariff Cancellation: Service Agreement No. 314 Cancellation to be effective 2/18/2020.

Filed Date: 12/18/19.

Accession Number: 20191218-5065.

Comments Due: 5 p.m. ET 1/8/20.

Docket Numbers: ER20-628-000.

Applicants: PJM Interconnection, L.L.C.

Description: § 205(d) Rate Filing: Orignal Service Agreement No. 5530; Queue No. AE2-065 to be effective 11/18/20.19.

Filed Date: 12/18/19.

Accession Number: 20191218-5112.

Comments Due: 5 p.m. ET 1/8/20.

Docket Numbers: ER20-630-000.

Applicants: PJM Interconnection, L.L.C.

Description: § 205(d) Rate Filing: Original ICSA No. 5531; Queue No. AE2-065 to be effective 11/18/2019.

Filed Date: 12/18/19.

Accession Number: 20191218-5115.

Comments Due: 5 p.m. ET 1/8/20.

Docket Numbers: ER20-631-000.

Applicants: Southern California Edison Company.

Description: § 205(d) Rate Filing: Letter Agreement Sagebrush SA No. 241 to be effective 12/1/2019.

Filed Date: 12/18/19.

Accession Number: 20191218-5124.

Comments Due: 5 p.m. ET 1/8/20.

Docket Numbers: ER20-632-000.

Applicants: Southern California Edison Company.

Description: § 205(d) Rate Filing: LGIA Mojave 16/17/18 LLC.—Mojave 89 SA No. 239 to be effective 12/1/2019.

Filed Date: 12/18/19.

Accession Number: 20191218-5127.

Comments Due: 5 p.m. ET 1/8/20.

Docket Numbers: ER20-633-000.

Applicants: Southern California Edison Company.

Description: § 205(d) Rate Filing: LGIA Mojave 3/4/5 LLC.—Mojave 90 SA No. 240 to be effective 12/1/2019.

Filed Date: 12/18/19.

Accession Number: 20191218-5130.

Comments Due: 5 p.m. ET 1/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2019.
Nathaniel J. Davis, Sr.,
Deputy Secretary.

[FR Doc. 2019-27878 Filed 12-26-19; 8:45 am]

BILLING CODE 6717-01-P